DEPARTMENT OF COMMERCE

International Trade Administration

[A-549-821]

Polyethylene Retail Carrier Bags From Thailand: Notice of Final Results of Antidumping Duty Changed Circumstances Review

AGENCY: Enforcement and Compliance, International Trade Administration, Department of Commerce.

SUMMARY: The Department of Commerce (the Department) has determined that TPBI Public Company Limited (TPBI) is the successor-in-interest to Thai Plastic Bags Industries Company Limited (Thai Plastic Bags Company) for purposes of the antidumping duty order on polyethylene retail carrier bags (PRCBs) from Thailand and, as such, will be entitled to Thai Plastic Bags Company's exclusion from the antidumping duty order.

DATES: Effective Date: September 2, 2015.

FOR FURTHER INFORMATION CONTACT: Thomas Schauer, AD/CVD Operations, Office I, Enforcement and Compliance, International Trade Administration, Department of Commerce, 14th Street and Constitution Avenue NW., Washington, DC 20230; telephone: (202) 482-0410.

SUPPLEMENTARY INFORMATION:

Background

On July 20, 2015, pursuant to a request from TPBI, we initiated and announced the preliminary results of a changed-circumstances review of the antidumping duty order on PRCBs from Thailand to determine whether TPBI was a successor-in-interest to Thai Plastic Bags Company.¹

¹ See Polyethylene Retail Carrier Bags From Thailand: Notice of Initiation and Preliminary Results of Antidumping Duty Changed Circumstances Review, 80 FR 42789 (July 20, 2015) (Preliminary Results).

In the Preliminary Results, we solicited comments from interested parties.² The only party to comment on the Preliminary Results was TPBI supporting the Preliminary Results.³

² Id.

³ See letter from TPBI, “Polyethylene Retail Carrier Bags (PRCBs) from Thailand: Expedited Changed Circumstances Review” (July 17, 2015).

Scope of the Order

The merchandise subject to the order is PRCBs, which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of changes to the Harmonized Tariff Schedule of the United States (HTSUS), imports of the subject merchandise are currently classifiable under statistical category 3923.21.0085 of the HTSUS. Furthermore, although the HTSUS subheading is provided for convenience and customs purposes, the written description of the scope of the order is dispositive.

Final Results of the Changed Circumstances Review

In 2010, the antidumping duty order on PRCBs from Thailand was partially revoked with respect to Thai Plastic Bags Company.⁴ For the reasons stated in the Preliminary Results, we continue to find that TPBI is the successor-in-interest to Thai Plastic Bags Company and, as a result, should be accorded the same treatment as Thai Plastic Bags Company.⁵ We will instruct U.S. Customs and Border Protection to neither suspend liquidation nor collect cash deposits with respect to TPBI.

⁴ See Notice of Implementation of Determination Under Section 129 of the Uruguay Round Agreements Act and Partial Revocation of the Antidumping Duty Order on Polyethylene Retail Carrier Bags From Thailand, 75 FR 48940 (August 12, 2010).

⁵ See Preliminary Results and accompanying Decision Memorandum.

Notification to Interested Parties

This notice serves as a reminder to parties subject to administrative protective order (APO) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Dated: August 27, 2015.
Paul Piquado,
Assistant Secretary for Enforcement and Compliance.

[FR Doc. 2015-21769 Filed 9-1-15; 8:45 am]

BILLING CODE 3510-DS-P